DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR part 107, Subpart B), notice is hereby given that the Office of Hazardous Materials Safety has received the applications described herein. Each mode of transportation for which a particular exemption is requested is indicated by a number in the “Nature of Application“ portion of the table below as follows: 1—Motor vehicle, 2—Rail freight, 3—Cargo vessel, 4—Cargo aircraft only, 5—Passenger-carrying aircraft.

DATES: Comments must be received on or before September 19, 2001.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on August 15, 2001.
J. Suzanne Hedgepeth,
Director, Office of Hazardous Materials, Exemptions and Approvals.

New Exemptions
Application No. | Docket No. | Applicant | Regulation(s) affected | Nature of exemption thereof
12778-N | RSPA-01-10306 | SF Phosphates Limited Co., Rock Springs, WY | 49 CFR 174.67(i) & (j) | To authorize tank cars, containing anydrous ammonia, to remain connected while standing without the physical presence of an unloader (Mode 2.)
12780-N | RSPA-01-10307 | Vinings Industries, Inc., Kennesaw, GA | 49 CFR 172.202, 173.203 | To authorize the transportation in commerce of samples of Class 8 and Class 9 hazardous materials in specially designed packaging. (Mode 1.)
12781-N | RSPA-01-10318 | International Business Aircraft, Inc., Tulsa, OK | 49 CFR 172.101 | To authorize the transportation in commerce of Class 1 explosives which are forbidden or exceed quantities presently authorized. (Mode 4.)
12782-N | RSPA-01-10318 | Air Liquide American Corporation, Houston, TX | 49 CFR 173.301(g)(1) | To authorize the transportation in commerce of non-DOT specification cylinders equipped with plastic protection caps for use in transporting Division 2.1 and 2.2 compressed gases. (Mode 1.)
12783-N | RSPA-01-10309 | CryoSurgery, Inc., Nashville, TN | 49 CFR 171.8, 173.144, 173.156, 173.304, 173.306 | To authorize the transportation in commerce of small units of compressed gas, refrigerant 404A as limited quantities and/or ORM-D intended for medical use. (Modes 1, 2, 3, 4, 5.)
12784-N | RSPA-01-10308 | CrySurgery, Inc., Nashville, TN | 49 CFR 171.8, 173.144, 173.156, 173.304, 173.306 | To authorize the transportation in commerce of compressed, refigerant 22, when shipped in relatively small units to be reclassed as ORM-D and transported as consumer commodity for medical purposes. (Modes 1, 2, 3, 4, 5.)
12785-N | RSPA-01-10313 | Monson Companies, South Portland, ME | 49 CFR 177.848 | To authorize the transportation in commerce of Division 4.2 and Class 8 materials that are not authorized to be transported, or stored together in the same transport vehicle or storage facility. (Mode 1.)
12790-N | RSPA-01-10320 | Environmental Management, Inc. (EMI) | 49 CFR 173.201, 173.202, 173.203, 173.302, 173.304, 173.309, 173.34 | To authorize the transportation in commerce of non-DOT specification full open head, steel salvage cylinders for use in transporting damaged, leaking or improperly filled cylinders containing various hazardous materials. (Mode 1.)
12791-N | RSPA-01-10314 | General Dynamics Ordnance Tactical Systems, Inc., Marion, IL | 49 CFR 173.1(b), 173.24(c), 173.25(a)(1), 173.3(a) | To authorize the one-time transportation in commerce of 35 drums containing explosives which do not meet Packing Instruction 115 of the HMR. (Mode 1.)
12792-N | RSPA-01-10321 | Miami Products and Chemical Company, Fairborn, OH | 49 CFR 174.67(i) & (j) | To authorize tank cars, containing chlorine, to remain connected while standing without the physical presence of an unloader. (Mode 2.)
12795-N | RSPA-01-10340 | Scientific Cylinder Corp., Englewood, CO | 49 CFR (e)(8), (e)(15)(vi) and (e)(19), 173.34(e)(1), (e)(3), (e)(4), (e)(5), (e)(6), (e)(7) | To authorize the transportation in commerce of DOT-3A cylinders manufactured from 6061 alloy which are 100% ultrasonic wall thickness inspected in lieu of the internal visual test. (Modes 1, 2, 3, 4.)
12800-N | RSPA-01-10317 | Department of Energy, (DOE), Washington, DC | 49 CFR 173.427(b) | To authorize the transportation in commerce of unit train shipments in exclusive use of soil-like radioactive LSA-11 waste material in strong tight bulk packages (closed rail cars). (Mode 2.)

[FR Doc. 01-20925 Filed 8-17-01; 8:45 am]

BILLING CODE 4910-60-M